DEPARTMENT OF THE INTERIOR

National Park Service

National Mall & Memorial Parks; Notice of Intent To Prepare an Environmental Impact Statement and Plan for the National Mall

AGENCY: Department of the Interior, National Park Service.

ACTION: Notice of intent to prepare an Environmental Impact Statement and Plan for the National Mall.

SUMMARY: In accordance with section 102(2)(C) of the National Environmental Policy Act of 1969, the National Park Service (NPS) will be preparing an Environmental Impact Statement and Plan for the National Mall to develop a long term vision plan for the use and management of the National Mall, which has been defined by Congress as a “substantially completed work of civic art,” and for Pennsylvania Avenue National Historic Park. In the January 16, 2007 Federal Register (72 FR 1763), the NPS announced it was developing this plan. The NPS was already holding public meetings and engaging with other government agencies. The NPS has since determined it will proceed to producing an Environmental Impact Statement as part of the planning process.

DATES: Information related to public involvement opportunities will be provided at the following park Web site: http://www.nps.gov/nationalmallplan.

FOR FURTHER INFORMATION CONTACT: Project Executive Susan Spain, who may be contacted at National Mall & Memorial Parks, 900 Ohio Drive, SW., Washington, DC 20024, by telephone at (202) 245-4692, or by e-mail at susan_spain@nps.gov.

SUPPLEMENTARY INFORMATION: The planning effort will include compliance with Section 106 of the National Historic Preservation Act and other laws and requirements. The National Mall Plan will differ from an NPS General Management Plan in that it will cover a longer-term time frame and is not a plan for the entirety of the National Mall & Memorial Parks. National Mall & Memorial Parks includes many national park units throughout the Nation's Capital and this plan will address only the National Mall, which is comprised of West Potomac Park, the Washington Monument and the Mall, and the related Pennsylvania Avenue National Historic Park. A map of the study area is available at http://www.nps.gov/nationalmallplan. In cooperation with the agencies with jurisdiction over properties adjoining the National Mall, attention will also be given to cumulative impacts outside its boundaries that affect the integrity of the National Mall.

The Environmental Impact Statement and Plan for the National Mall will address visitor use issues such as civic space, events management, national celebrations, education, programs and recreation; and will identify types, locations, and character of needed visitor facilities and services, which could include food service, seating, lighting, restrooms, recreation, signage (orientation/way finding/education), and crowd management. The Environmental Impact Statement and Plan for the National Mall could also identify desired site improvements, such as floral displays, water features, and other embellishments that are not commemorative in nature. Additional issues may be defined or added throughout planning.

Public involvement and civic engagement will continue to be key components in the preparation of the Environmental Impact Statement and Plan for the National Mall. As a result of the decision to conduct an Environmental Impact Statement, there will be public scoping meetings and opportunities on a range of alternatives and other topics, concurrent with publication of several reports and newsletters addressing public comment and a draft range of alternatives. The thousands of comments already received by the NPS are also being considered in this process along with the information provided by cooperating agencies and others.

Dated: August 16, 2007.
Joseph M. Lawler,
Regional Director, National Capital Region.

[FR Doc. E7-17593 Filed 9-5-07; 8:45 am]

BILLING CODE 4312-39-P